DEPARTMENT OF JUSTICE

Notice of Lodging of Consent Decree Under the Comprehensive Environmental Response, Compensation and Liability Act (“CERCLA”)

Consistent with Departmental policy, 28 CFR 507.38 FR 19029, and 42 U.S.C. § 9622(d), notice is hereby given that on February 11, 2004, a proposed consent decree in United States v. Princeton Gamma-Tech, et al., Civil Action No. 91-809 (AET), was lodged with the United States District Court for the District of New Jersey.

In this action the United States sought recovery of response costs pursuant to section 107(a) of CERCLA, for costs incurred related to the Montgomery Township Housing Development Superfund Site and the Rocky Hill Municipal Wellfield site located in Somerset County, New Jersey. The consent decree requires defendant Princeton Gamma-Tech, Inc. to pay a total of $21.5 million to the United States and the State of New Jersey. The United States will receive $14,204,000 in reimbursement of past and future response costs at the Sites, and the State of New Jersey will receive $7,296,000 in reimbursement of past and future response costs as well as natural resource damages. The Department of Justice will receive for a period of thirty (30) days from the date of this publication comments relating to the consent decree. Comments should be addressed to the Assistant Attorney General, Environment and Natural Resources Division, P.O. Box 7611, U.S. Department of Justice, Washington, DC 20044-7611, and should refer to United States v. Princeton Gamma-Tech, Inc., et al., D.J. Ref. #90-11-2-290.

The consent decree may be examined at the Office of the United States Attorney, District of New Jersey, Clarkson S. Fisher Federal Building and U.S. Courthouse, 402 E. State Street, Trenton, New Jersey 08608 (contact AUSA Irene Dowdy), and at U.S. EPA Region II, 290 Broadway, New York, New York 10007-1866 (contact Amelia Wagner). During the public comment period, the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.50 (25 cents per page reproduction cost) payable to the U.S. Treasury.

Ronald G. Gluck,
Assistant Chief, Environmental Enforcement Section, Environment and Natural Resources Division.

[FR Doc. 04-4762 Filed 3-2-04; 8:45 am]

BILLING CODE 4410-15-M